FEDERAL COMMUNICATIONS COMMISSION

47 CFR Part 25

[IB Docket No. 00-185, FCC 03-15]

Flexibility for Delivery of Communications by Mobile Satellite Service Providers in the 2 Ghz Band, the L-Bank, and the l.6/2.4 GHz Bands

AGENCY: Federal Communications Commission.

ACTION: Final rules; announcement of effective date.

SUMMARY: This document announces the effective date of certain sections of the rule published on June 5, 2003. Those rules permitted certain mobile-satellite service (MSS) providers in the 2 GHz Band, the L-Bank, and the 1.6/2.4 GHz Banks to integrate ancillary terrestrial components (ATCs) into their MSS networks.

DATES: Sections 25.149, 25.252, 25.253, and 25.254, published at 68 FR 33640, June 5, 2003, was approved by the Office of Management and Budget (OMB) on June 6, 2003, and are effective August 18, 2003.

FOR FURTHER INFORMATION CONTACT: Peggy Reitzel, Policy and Facilities Branch, Telecommunications Division, International Bureau, (202) 418-1460.

SUPPLEMENTARY INFORMATION: On February 3, 2003, the Commission released a Report and Order adopting a number of amendments to Parts 2 and 25 of the Commission's rules, as well as changes to Commission policy (FCC 03-15), a summary of which was published in the Federal Register. See 68 FR 33640 (June 5, 2003). We stated that the rules were effective on July 7, 2003, except for those sections containing new information collection requirements, which required approval by the Office of Management and Budget (OMB). The information collection requirements were approved by OMB on June 6, 2003. See OMB No. 3060-0994. This publication satisfies our statement that the Commission would publish a document announcing the effective date of the rules.

List of Subjects in 47 CFR Part 25

Radio, Satellites, Telecommunications.

Federal Communications Commission.
Marlene H. Dortch,
Secretary.

[FR Doc. 03-20788 Filed 8-15-03; 8:45 am]

BILLING CODE 6712-01-P